DEPARTMENT OF THE INTERIOR

Fish and Wildlife Service

[FWS-HQ-R-2018-N083; FXGO1664091HCC0-FF09D00000-189]

International Wildlife Conservation Council; Public Meeting

AGENCY: Fish and Wildlife Service, Interior.

ACTION: Notice of meeting.

SUMMARY: In accordance with the Federal Advisory Committee Act, the U.S. Fish and Wildlife Service, announces a public meeting of the International Wildlife Conservation Council (Council).

DATES: Tuesday, June 19, 2018, from 8 a.m. to 5 p.m. (Eastern Time). For deadlines and directions on registering to attend, submitting written material, and giving an oral presentation, please see Public Input under SUPPLEMENTARY INFORMATION.

ADDRESSES: The meeting will be held at the U.S. Fish and Wildlife Service Southeast Region Headquarters Building, 1875 Century Boulevard NE, Atlanta, GA 30345.

FOR FURTHER INFORMATION CONTACT: Doug Hobbs, Alternate Designated Federal Officer, by U.S. mail at the U.S. Fish and Wildlife Service—External Affairs, 5275 Leesburg Pike, Falls Church, VA 22041-3803; by telephone at (703) 358-2336; or by email at doug_hobbs@fws.gov.

SUPPLEMENTARY INFORMATION: The council provides advice and recommendations to the Secretary of the Interior (Secretary) regarding the benefits that result from United States citizens traveling to foreign nations to engage in hunting.

Background

Formed in December 2017, the council is an advisory body whose duties include but are not limited to:

(a) Developing a plan for public engagement and education on the benefits of international hunting.

(b) Reviewing and making recommendations for changes, when needed, on all Federal programs, and/or regulations, to ensure support of hunting as:

1. An enhancement to foreign wildlife conservation and survival, and

2. An effective tool to combat illegal trafficking and poaching.

(c) Recommending strategies to benefit the U.S. Fish and Wildlife Service's permit office in receiving timely country data and information so as to remove barriers that impact consulting with range states.

(d) Recommending removal of barriers to the importation into the United States of legally hunted wildlife.

(e) Ongoing review of import suspension/bans and providing recommendations that seek to resume the legal trade of those items, where appropriate.

(f) Reviewing seizure and forfeiture actions/practices, and providing recommendations for regulations that will lead to a reduction of unwarranted actions.

(g) Reviewing the Endangered Species Act's foreign listed species and interaction with the Convention on International Trade in Endangered Species of Wild Flora and Fauna, with the goal of eliminating regulatory duplications.

(h) Recommending methods for streamlining/expediting processing of import permits.

Meeting Agenda

The council will convene to discuss issues that include:

1. International wildlife conservation strategies;

2. U.S. ports of entry—importation security and customer service,

3. Perspectives from range countries, and

4. Other business.

The final agenda will be posted on the internet at http://www.fws.gov/iwcc.

Attendance

If you plan to attend this meeting, you must register by close of business on the date listed in Public Input. Please submit your name, time of arrival, email address, and phone number to the Alternate Designated Federal Officer (see FOR FURTHER INFORMATION CONTACT). Space is limited and requests to attend will be accommodated in the order they are received.

Public Input

If you wish to . . . | You must contact the Alternate Designated Federal Officer (see FOR FURTHER INFORMATION CONTACT) no later than . . .
Attend the meeting | June 14, 2018.
Submit written information or questions before the meeting for the council to consider during the meeting | June 14, 2018.
Give an oral presentation during the public comment period | June 14, 2018.

Submitting Written Information or Questions

Interested members of the public may submit relevant information or questions for the Council to consider during the public meeting. Written statements must be received by the date in the table above so that the information may be made available to the Council for consideration prior to the meeting. Submit written statements to the Alternate Designated Federal Officer in the following formats: One hard copy with original signature, and/or one electronic copy via email (acceptable file formats are Adobe Acrobat PDF, MS Word, MS PowerPoint, or rich text file).

Giving an Oral Presentation

Requests to address the council during the public comment period will be accommodated in the order the requests are received. Interested parties must contact the Alternate Designated Federal Officer in writing (preferably via email; see FOR FURTHER INFORMATION CONTACT). Depending on the number of people who want to comment and the time available, the amount of time for individual oral comments may be limited. Nonregistered public speakers will not be permitted to present material during the meeting. Registered speakers who wish to expand upon their oral statements, or those who had wished to speak but could not be accommodated on the agenda, may submit written statements to the Alternate Designated Federal Officer up to 30 days after the meeting.

Public Disclosure of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Meeting Minutes

Summary minutes of the meeting will be maintained by the Designated Federal Officer. They will be available for public inspection within 90 days of the meeting.

Authority: 5 U.S.C. Appendix 2.

Gregory J. Sheehan,
Principal Deputy Director.

[FR Doc. 2018-11878 Filed 6-1-18; 8:45 am]

BILLING CODE 4333-15-P